DEPARTMENT OF ENERGY

Federal Energy Regulatory Commission

[Docket No. CP14-19-000]

Questar Pipeline Company; Notice of Request Under Blanket Authorization

Take notice that on November 7, 2013, Questar Pipeline Company (Questar), 333 South State Street, P. 45360, Salt Lake City, Utah, filed in Docket No. CP14-19-000, an application pursuant to sections 157.205 and 157.208(b) of the Commission's Regulations under the Natural Gas Act (NGA) as amended, requesting authorization to replace a section of its existing Main Line (ML) 3 in Davis and Morgan Counties, Utah. The authorizations are requested under Questar's blanket certificate issued in Docket No. CP82-491-000,¹ all as more fully set forth in the application which is on file with the Commission and open to public inspection.

¹ See Mountain Fuel Resources, Inc., 20 FERC ¶ 62,580 (1982).

Questar proposes in its Weber Canyon Replacement Project (Project) to replace approximately 3.26 miles of its existing 16-inch ML 3 pipeline on the south side of Interstate 84 in Weber Canyon southeast of Ogden Utah. Questar proposes to isolate the line, remove the existing pipe, and install new pipe in the same trench within the existing right-of-way. The estimated cost of the project is approximately $29,392,000.

The Project will have no impact on the certificated parameters of the Questar pipeline. In addition, there will be no abandonment or decrease in service to Questar customers as a result of the proposed Project. As described in the application, ground-disturbing activities necessary to construct the project will result in minimal environmental impacts. Questar also requests waiver of the requirements of Commissions regulations section 157(203)(d)(2) regarding a weekly Environmental Inspector's report.

The filing may also be viewed on the Web at http://www.ferc.gov using the “eLibrary” link. Enter the docket number excluding the last three digits in the docket number field to access the document. For assistance, please contact FERC Online Support at FERCOnlineSupport@ferc.gov or toll free at (866) 208-3676, or TTY, contact (202) 502-8659.

Any questions concerning this application should be directed to L. Bradley Burton, General Manager, Federal Regulatory Affairs, and FERC Compliance Officer, Questar Pipeline Company, 180 East 100 South, P.O. Box 45360, Salt Lake City, Utah 84145-0360, phone (801)324-2459, email brad.burton@questar.com.

Any person or the Commission's staff may, within 60 days after issuance of the instant notice by the Commission, file pursuant to Rule 214 of the Commission's Procedural Rules (18 CFR 385.214) a motion to intervene or notice of intervention and pursuant to Section 157.205 of the regulations under the NGA (18 CFR 157.205), a protest to the request. If no protest is filed within the time allowed therefore, the proposed activity shall be deemed to be authorized effective the day after the time allowed for filing a protest. If a protest is filed and not withdrawn within 30 days after the allowed time for filing a protest, the instant request shall be treated as an application for authorization pursuant to Section 7 of the NGA.

Persons who wish to comment only on the environmental review of this project should submit an original and two copies of their comments to the Secretary of the Commission. Environmental commenter's will be placed on the Commission's environmental mailing list, will receive copies of the environmental documents, and will be notified of meetings associated with the Commission's environmental review process. Environmental commenter's will not be required to serve copies of filed documents on all other parties. However, the non-party commentary, will not receive copies of all documents filed by other parties or issued by the Commission (except for the mailing of environmental documents issued by the Commission) and will not have the right to seek court review of the Commission's final order.

The Commission strongly encourages electronic filings of comments, protests and interventions in lieu of paper using the “eFiling” link at http://www.ferc.gov. Persons unable to file electronically should submit an original and 7 copies of the protest or intervention to the Federal Energy Regulatory Commission, 888 First Street NE., Washington, DC 20426.

Comment Date: 5:00 p.m. Eastern Time on January 14, 2014.

Dated: November 15, 2013.
Kimberly D. Bose,
Secretary.

[FR Doc. 2013-27954 Filed 11-20-13; 8:45 am]

BILLING CODE 6717-01-P